ENVIRONMENTAL PROTECTION AGENCY

40 CFR Part 52

[PA-4091a; FRL-6568-9]

Approval and Promulgation of Air Quality Implementation Plans; Pennsylvania; Approval of VOC and NOΧ RACT Determinations for Individual Sources

AGENCY: Environmental Protection Agency (EPA).

ACTION: Direct final rule.

SUMMARY: EPA is taking direct final action to approve revisions to the Commonwealth of Pennsylvania's State Implementation Plan (SIP). The revisions impose reasonably available control technology (RACT) on twenty-six major sources of volatile organic compounds (VOC) and nitrogen oxides (NOΧ) located in Pennsylvania. EPA is approving these revisions to establish RACT requirements in the SIP in accordance with the Clean Air Act.

DATES: This rule is effective on June 19, 2000 without further notice, unless EPA receives adverse written comment by May 18, 2000. If EPA receives such comments, it will publish a timely withdrawal of the direct final rule in the Federal Register and inform the public that the rule will not take effect.

ADDRESSES: Written comments should be mailed to Kathleen Henry, Chief, Permits and Technical Assessment Branch, Air Protection Division, Mailcode 3AP11, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; and the Pennsylvania Department of Environmental Protection, Bureau of Air Quality Control, P.O. Box 8468, 400 Market Street, Harrisburg, Pennsylvania 17105.

FOR FURTHER INFORMATION CONTACT: Kelly L. Bunker at (215) 814-2177 for information on sources #1-18 (or via e-mail at bunker.kelly@epa.gov) or Melik Spain at (215) 814-2299 for information on sources #19-26 (or via e-mail at spain.melik@epa.gov). While information may be requested via e-mail, any comments must be submitted in writing to the above Region III address.

SUPPLEMENTARY INFORMATION:

I. Background

On August 1, 1995, January 6, 1995, June 14, 1995, December 8, 1995, May 31, 1995, May 2, 1996, March 21, 1996, September 13, 1996, November 4, 1997, March 24, 1998, December 7, 1998, February 2, 1999, March 3, 1999, April 9, 1999, April 20, 1999 and July 28, 1999, the Commonwealth of Pennsylvania submitted formal revisions to its State Implementation Plan (SIP). On March 24, 1998, May 29, 1998, October 2, 1998, October 16, 1998, December 7, 1998, February 2, 1999, April 9, 1999 and June 22, 1999, the Commonwealth submitted supplemental information pertaining to the Cogentrix, Scrubgrass Generating Company, Indiana University of Pennsylvania, INDSPEC, Wheelabrator-Frackville, Piney Creek, Harrisburg Steam Works and the four PP&L revisions, respectively. On July 24, 1998, PADEP submitted materials which replaced the May 2, 1996 submittal for Transit America Inc. Each source subject to this rulemaking will be identified and discussed below. Any plan approvals and operating permits submitted coincidentally with those being approved in this document, and not identified below, will be addressed in a separate rulemaking action.

Pursuant to sections 182(b)(2) and 182(f) of the Clean Air Act (CAA), Pennsylvania is required to implement RACT for all major VOC and NOΧ sources by no later than May 31, 1995. The definition of a major source is determined by its size, location, the classification of that area and whether it is located in the ozone transport region (OTR), which is established by the CAA. The Pennsylvania portion of the Philadelphia-Wilmington-Trenton ozone nonattainment area (the Philadelphia area) consists of Bucks, Chester, Delaware, Montgomery, and Philadelphia Counties and is classified as severe. The remaining counties in Pennsylvania are designated as nonattainment are classified as either moderate or marginal. However, under section 184 of the CAA, at a minimum, moderate area requirements for stationary sources, including RACT as specified in sections 182(b)(2) and 182(f), apply throughout the OTR. Therefore, RACT is applicable statewide in Pennsylvania. The Pennsylvania submittals that are the subject of this document are meant to satisfy the RACT requirements for twenty-six specific sources.

Summary of SIP Revision

The details of the RACT requirements for the source-specific plan approvals, operating permits and compliance permit can be found in the docket and accompanying technical support documents (TSD) and will not be reiterated in this document. Briefly, EPA is approving a revision to the Pennsylvania SIP pertaining to the determination of RACT for twenty-six major sources. Several of the plan approvals and operating permits contain conditions which are not relevant to the determination of VOC or NOΧ RACT. These provisions are not included in Pennsylvania's SIP revision requests these sources.

RACT Determinations

The following table identifies the individual compliance permit, plan approvals, and operating permits EPA is approving. The specific emission limitations and other RACT requirements for these sources are summarized in the accompanying technical support documents, which are available upon further request from the EPA Region III office listed in the ADDRESSES section of this document.

Pennsylvania—VOC and NOX Ract Determinations for Individual Sources: Source | Pennsylvania—VOC and NOX Ract Determinations for Individual Sources: County | Pennsylvania—VOC and NOX Ract Determinations for Individual Sources: Plan approval (PA#) Operating Permit (OP#) Compliance Permit (CP#) (date of issuance) | Pennsylvania—VOC and NOX Ract Determinations for Individual Sources: Source type | Pennsylvania—VOC and NOX Ract Determinations for Individual Sources: “Major source” pollutant
1. Allegheny Ludlum Steel Corporation | Westmoreland | OP 65-000-137 (5/17/99) | Specialty steel manufacturing | NOX
2. Cogentrix-Ringgold Cogeneration Facility | Jefferson | OP 33-137 (1/27/98), PA | Utility | NOX
|  | 33-302-014 (11/15/90), PA
|  | 33-399-004 (10/31/88)
3. Doverspike Brothers Coal Co | Jefferson | OP 33-007 (1/13/99) | Utility | NOX & VOC
4. Edison Mission Energy Homer City Coal Processing Plant | Indiana | OP 32-000-132 (5/17/99) | Utility | NOX
5. Harrisburg Steam Works, Ltd | Dauphin | OP 22-2005 (3/23/99) | Cogeneration facility | NOX
6. Indiana University of Pennsylvania | Indiana | OP 32-000-200 (9/24/98) | Cogeneration facility | NOX & VOC
7. INDSPEC Chemical Corporation | Butler | PA 10-021 (10/19/98) | Chemical manufacturing facility | NOX & VOC
8. Pennsylvania Power & Light Co. (PP&L)—Allentown Facility | Lehigh | OP 39-0009 (6/1/99) | Utility | NOX
9. PP&L—Fishbach Facility | Schuylkill | OP 54-0011 (6/1/99) | Utility | NOX
10. PP&L—Harwood Facility | Luzerne | OP 40-0016 (6/1/99) | Utility | NOX
11. PP&L—Jenkins Facility | Luzerne | OP 40-0017 (6/1/99) | Utility | NOX
12. Piney Creek Ltd. Partnership | Clarion | OP 16-127 (12/18/98) | Utility | NOX
13. Scrubgrass Generation Co | Venango | OP 61-181 (4/30/98) | Utility | NOX
14. Statoil Energy power Paxton, LP | Dauphin | OP 22-2015 (6/30/99) | Cogeneration facility | NOX
15. Stoney Creek Technologies, L.L.C | Delaware | CP 23-0002 (2/24/99) | Chemical manufacturing facility | NOX & VOC
16. Superpac, Inc. | Bucks | OP 09-0003 (3/25/99) | Graphic arts | VOC
17. Transit America Inc. | Philadelphia | PA 1563 (6/11/98) | Industrial boilers | NOX
18. Wheelabrator Frackville Energy Company | Schuylkill | OP 54-0005 (9/18/98) | Utility | NOX
19. American Bank Note Co | Montgomery | OP 46-0075 (8/10/98) | Graphic arts | VOC
20. Atlas Roofing Corporation | Bucks | OP 09-0039 (3/10/99) | Synthetic materials | VOC
21. Beckett | Chester | OP 15-0040 (7/8/97) | Graphic arts | VOC
22. Cove Shoe Company | Blair | OP 07-02028 (4/7/99) | Surface coating | VOC
23. Fleetwood Motor Homes | Northumberland | OP 49-0011 (10/30/98) | Surface coating | VOC
24. Hedstrom Corporation | Bedford | OP 05-02002A (4/8/99) | Surface coating | VOC
25. International Business Systems | Montgomery | OP 46-0049 (10/29/98) | Graphic arts | VOC
26. Klearfold | Bucks | OP 09-0012 (4/15/99) | Graphic arts | VOC
27. National Label Company | Montgomery | OP 46-0040 (7/28/97) | Graphic arts | VOC

EPA is publishing this rule without prior proposal because we view this as a noncontroversial amendment and anticipate no adverse comment. However, in the “Proposed Rules” section of today's Federal Register, EPA is publishing a separate document that will serve as the proposal to approve the SIP revision if adverse comments are filed. This direct final rule will be effective on June 19, 2000 without further notice unless we receive adverse comment by May 18, 2000. If EPA receives adverse comment, EPA will publish a timely withdrawal in the Federal Register informing the public that the rule will not take effect. EPA will address all public comments in a subsequent final rule based on the proposed rule. EPA will not institute a second comment period on this action. Any parties interested in commenting must do so at this time.

II. Final Action

EPA is approving SIP revisions submitted by the Commonwealth of Pennsylvania which consist of four plan approvals, twenty-three operating permits and one compliance permit imposing RACT on twenty-six individual major sources of NOX and/or VOC.

III. Administrative Requirements

A. General Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for twenty-six named sources.

C. Petitions for Judicial Review

Under section 307(b)(1) of the Clean Air Act, petitions for judicial review of this action must be filed in the United States Court of Appeals for the appropriate circuit by June 19, 2000. Filing a petition for reconsideration by the Administrator of this final rule does not affect the finality of this rule for the purposes of judicial review nor does it extend the time within which a petition for judicial review may be filed, and shall not postpone the effectiveness of such rule or action. This action approving Pennsylvania's source-specific RACT requirements for twenty-six sources may not be challenged later in proceedings to enforce its requirements. (See section 307(b)(2).)

List of Subjects in 40 CFR Part 52

Environmental protection, Air pollution control, Hydrocarbons, Incorporation by reference, Nitrogen dioxide, Ozone.

Dated: March 19, 2000.
Bradley M. Campbell,
Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(140) to read as follows:

§ 52.2020 Identification of plan.

* * * * *

(c) * * *

(140) Revisions to the Pennsylvania Regulations, Chapter 129.91 pertaining to VOC and NOx RACT, submitted on August 1, 1995, January 6, 1995, June 14, 1995, December 8, 1995, May 31, 1995, May 2, 1996, March 21, 1996, September 13, 1996, February 2, 1999, March 3, 1999, April 9, 1999 and July 28, 1999 and supplements submitted on March 24, 1998, May 29, 1998, July 24, 1998, October 2, 1998, October 16, 1998, December 7, 1998, February 2, 1999, April 9, 1999 and June 22, 1999.

(i) Incorporation by reference.

(A) Twenty-one letters submitted by the Pennsylvania Department of Environmental Protection transmitting source-specific VOC and/or NOx RACT determinations in the form of plan approvals or operating permits on the following dates: August 1, 1995, January 6, 1995, June 14, 1995, December 8, 1995, May 31, 1995, May 2, 1996, March 21, 1996, September 13, 1996, November 4, 1997, March 24, 1998, December 7, 1998, February 2, 1999, March 3, 1999, April 9, 1999, April 20, 1999 and July 28, 1999 and supplements submitted on March 24, 1998, May 29, 1998, July 24, 1998, October 2, 1998, October 16, 1998, December 7, 1998, February 2, 1999, April 9, 1999 and June 22, 1999.

(B) Plan approvals (PA), Operating permits (OP), Compliance Permits (CP):

(1) Allegheny Ludlum Steel Corporation, Westmoreland County, OP 65-000-137, effective date of May 17, 1999, except for the expiration date and Condition 7;

(2) Cogentrix-Ringgold Cogeneration Facility, Jefferson County, OP 33-137, effective date of January 27, 1998, PA 33-302-014, effective date of November 15, 1990, OP 33-302-014, issued May 31, 1993, PA 33-399-004, effective date of October 31, 1988, and OP 33-399-004, issued on May 31, 1993, except for all ton per year limits and expiration dates in these permits, for Conditions 4, 5, and 6 in PA 33-302-014, for Condition 2 in OP 33-302-014, for Conditions 1, 2, 3, 4b, 4c, 4d, 4e, 5, 6, 7, 8, 9, 10, 12, 13, 14, 15, and 16 in PA 33-399-004, and for Condition 2 in OP 33-399-004.

(3) Doverspike Brothers Coal Co., Jefferson County, OP 33-007, effective date of January 13, 1999;

(4) Edison Mission Energy Homer City Generation L.P., Indiana County, OP 32-000-132, effective date of May 17, 1999;

(5) Harrisburg Steam Works, Ltd, Dauphin County, OP 22-02005, effective date of March 23, 1999, except for Conditions 5, 8, 11, 9, 10,18, 19, 22, 23, 24 and the expiration date;

(6) Indiana University of Pennsylvania, Indiana County, OP 32-000-200, effective date of September 24, 1998, except for the expiration date and Conditions 5, 7, 10, 12, 20, 21, and 22;

(7) INDSPEC Chemical Corporation, Butler County, PA 10-021, effective date of October 19, 1998 except for Condition 4, 5, the ton/year limits in Condition 8, 9, 18, 19 and all attachments;

(8) Pennsylvania Power & Light Co. (PP&L)—Allentown Facility, Lehigh County, OP 39-0009, effective date of June 1, 1999, except for the expiration date;

(9) PP&L—Fishbach Facility, Schuylkill County, OP 54-0011, issued June 1, 1999, except for the expiration date;

(10) PP&L—Harwood Facility, Luzerne County, OP 40-0016, effective date of June 1, 1999, except for the expiration date;

(11) PP&L—Jenkins Facility, Luzerne County, OP 40-0017, effective date of June 1, 1999, except for the expiration date;

(12) Piney Creek Ltd. Partnership, Clarion County, OP 16-127, effective date of December 18, 1998 except for the ton per year and #/hr limits in Condition 4, Conditions 5 and 9;

(13) Scrubgrass Generating Co. L.P., Venango County, OP 61-181, April 30, 1998, except for Conditions 4, 6, 7, and 9;

(14) Statoil Energy Power Paxton, LP, Dauphin County, OP 22-02015, effective date of June 30, 1999 except for the expiration date and Conditions 6, 16, 19 and 20;

(15) Stoney Creek Technologies, L.L.C., Delaware County, CP-23-0002, effective date of February 24, 1999 except for Conditions 4, 6, 10.A.2, 10.B—D and 11 and the expiration date;

(16) Superpac, Inc., Bucks County, OP-09-0003, effective date of March 25, 1999; except for Conditions 4, 5, 6.a, 7, 8 (as it relates to Conditions 5 and 7 in subparagraph 8a and 8b), 9.a, 9.b, 10 and 11.b, c, e, g and h and the expiration date;

(17) Transit America Inc., Philadelphia County, PA, PLID: 1563, effective date of June 11, 1997, except for the expiration date and Conditions 4 and 5;

(18) Wheelabrator Frackville Energy Company, Schuylkill County, OP 54-0005, effective date of September 18, 1998, except for the particulate and SO2 emission limits found in Condition 4, Condition 5, 6, 7, 9, 10, 11, 12 and 13 and the expiration date;

(19) American Bank Note Co., Montgomery County, OP-46-0075, effective date of August 10, 1998 except Conditions 4.a, 12, 13, 14, and 15;

(20) Atlas Roofing Corporation, Bucks County, OP-09-0039, effective date of March 10, 1999, except for Conditions 6, 7, 8.b, 9-15 and the expiration date;

(21) Beckett Corporation, Chester County, OP-15-0040, effective date of July 8, 1997, except for Conditions 9-17 and the expiration date;

(22) Cove Shoe Company, Blair County, OP 07-02028, effective date of April 7, 1999, except for Conditions 5, 10 and the expiration date;

(23) Fleetwood Motor Homes, Northumberland County, OP 49-0011, effective date of October 30,1998, except for Conditions 3, 5, 23-31 and the expiration date;

(24) Hedstrom Corporation, Bedford County, OP 05-02002A, effective date of April 8, 1999, except for Conditions 5, 6, 8, 9, 10, 12, 15.a, 16, 17, 18 and the expiration date;

(25) Klearfold Inc., Bucks County, OP-09-0012, effective date of April 15, 1999, except for Conditions 4, 6, 7-10, 12.F, 13-22 and the expiration date;

(26) National Label Company, Montgomery County, OP-46-0040, effective date of July 28, 1997, except for the expiration date and Conditions 3, 4, 5, 6, 7, 11, the Ton per year limit in Condition 12, 14-16.

(ii) Additional Material.

(A) Remainder of the Commonwealth of Pennsylvania's August 1, 1995, January 6, 1995, June 14, 1995, December 8, 1995, May 31, 1995, May 2, 1996, March 21, 1996, November 4, 1997, March 24, 1998, December 7, 1998, February 2, 1999, March 3, 1999, April 9, 1999 and April 20, 1999 and March 24, 1998, May 29, 1998, July 24, 1998, October 2, 1998, October 16, 1998, December 7, 1998, February 2, 1999, April 9, 1999, June 22, 1999 and July 28, 1999 VOC and NOX RACT SIP submittals and supplements.

(B) Letter from the Pennsylvania Department of Environmental Protection, dated 2/25/2000, clarifying which provisions of its RACT permits are to be incorporated into the Pennsylvania State Implementation Plan.

[FR Doc. 00-9382 Filed 4-17-00; 8:45 am]

BILLING CODE 6560-50-P